DEPARTMENT OF ENERGY

2024 LNG Export Study: Energy, Economic, and Environmental Assessment of U.S. LNG Exports; Extension of Comment Period

| Docket Nos.
Venture Global Calcasieu Pass, LLC | 13-69-LNG, 14-88-LNG, & 15-25-LNG
Venture Global Plaquemines LNG, LLC | 16-28-LNG
Commonwealth LNG, LLC | 19-134-LNG
Port Arthur LNG Phase II, LLC | 20-23-LNG
Venture Global CP2 LNG, LLC | 21-131-LNG
New Fortress Energy Louisiana FLNG LLC | 22-39-LNG
Mexico Pacific Limited LLC | 22-167-LNG
Gulfstream LNG Development, LLC | 23-34-LNG
Corpus Christi Liquefaction, LLC; CCL Midscale 8-9, LLC; and Cheniere Marketing, LLC | 23-46-LNG
Lake Charles Exports, LLC | 23-87-LNG
Southern LNG Company, L.L.C | 23-109-LNG
Magnolia LNG, LLC | 23-137-LNG
Sabine Pass Liquefaction, LLC and Sabine Pass Liquefaction Stage V, LLC | 24-27-LNG
Gato Negro Permitium Dos, S.A.P.I. de C.V | 24-87-LNG

AGENCY: Office of Fossil Energy & Carbon Management, Department of Energy.

ACTION: Extension of public comment period.

SUMMARY: The U.S. Department of Energy (DOE) is extending the public comment period for its Notice of Availability of the 2024 LNG Export Study and Request for Comments, which was published in the Federal Register on December 20, 2024. The published Notice established a 60-day public comment period, from the date of publication through Tuesday, February 18, 2025. The purpose of the 2024 LNG Export Study (Study) is to provide an update to DOE's prior analyses and understanding of how varying levels of U.S. liquefied natural gas (LNG) exports impact and inform DOE's statutory public interest determination. DOE is extending the public comment period from 60 days to 90 days. Comments may now be submitted until Thursday, March 20, 2025.

DATES: The comment period announced in the Notice of Availability and Request for Comments, published on December 20, 2024 (89 FR 104132), is extended. Comments are to be filed pursuant to the procedures detailed in the Public Comment Procedures section of that Federal Register Notice no later than 4:30 p.m., Eastern time, March 20, 2025. DOE will not accept reply comments (i.e., comments responding to the comments of other commenters).

ADDRESSES:

Electronic Filing of Comments Using Online Form (Strongly Encouraged): https://fossil.energy.gov/app/docketindex/docket/index/30.

Postal Mail, Hand Delivery, or Private Delivery Services (e.g., FedEx, UPS, etc.): U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit comments electronically to ensure timely receipt.

FOR FURTHER INFORMATION CONTACT: Ms. Beverly Howard, Docket Room Manager, U.S. Department of Energy (FE-34), Office of Regulation, Analysis, and Engagement, Office of Resource Sustainability, Office of Fossil Energy and Carbon Management, Forrestal Building, Room 3E-042, 1000 Independence Avenue SW, Washington, DC 20585, (202) 586-9478, FERGAS@hq.doe.gov.

SUPPLEMENTARY INFORMATION: On December 20, 2024, DOE published a notice in the Federal Register announcing the availability of its 2024 LNG Export Study. The Study is an update to earlier material that DOE used to inform its required public interest determinations, under section 3 of the Natural Gas Act, for the export of liquefied natural gas to countries lacking a free trade agreement with the United States. DOE stated that it would accept written comments through February 18, 2025. Within 30 days of publishing the Notice and opening the public comment period, DOE received tens of thousands of filed comments. DOE has considered the benefit to stakeholders in offering additional time to review the Study and provide the input that DOE is seeking. Accordingly, DOE has determined that extending the comment period is appropriate and will accept comments until March 20, 2025. Consistent with past practice over the previous decade, DOE has issued decisions on pending non-FTA applications during prior updates to our economic and environmental studies evaluating exports of LNG. Therefore, DOE continues to consider pending export applications and may issue decisions on pending applications prior to the close of the extended comment period.

Signing Authority

This document of the Department of Energy was signed on January 29, 2025, by Steven E. Winberg, Principal Deputy Assistant Secretary, Office of Fossil Energy & Carbon Management, pursuant to delegated authority from the Acting Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 31, 2025.
Treena V. Garrett,
Federal Register Liaison Officer, U.S. Department of Energy.

[FR Doc. 2025-02238 Filed 2-4-25; 8:45 am]

BILLING CODE 6450-01-P